DEPARTMENT OF TRANSPORTATION

National Highway Traffic Safety Administration

[Docket No. NHTSA-2019-0131; Notice 1]

FCA US LLC, Receipt of Petition for Decision of Inconsequential Noncompliance

AGENCY: National Highway Traffic Safety Administration (NHTSA), Department of Transportation (DOT).

ACTION: Receipt of petition.

SUMMARY: FCA US LLC (f/k/a Chrysler Group LLC) “FCA” has determined that certain model year (MY) 2004-2020 Chrysler, Dodge, Jeep, Fiat, and Alfa Romeo motor vehicles do not comply with Federal Motor Vehicle Safety Standard (FMVSS) No. 101, Controls and Displays. FCA filed a noncompliance report dated November 15, 2019, and later amended it on December 9, 2019. FAC US subsequently petitioned NHTSA on December 9, 2019, for a decision that the subject noncompliance is inconsequential as it relates to motor vehicle safety. This document announces receipt of FCA's petition.

DATES: Send comments on or before August 12, 2020.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview

FCA has determined that certain MY 2004-2020 Chrysler, Dodge, Jeep, Fiat, and Alfa Romeo motor vehicles do not comply with paragraph S5.2.1 of FMVSS No. 101, Controls and Displays (49 CFR 571.101). FCA filed a noncompliance report dated November 15, 2019, and later amended it on December 9, 2019, pursuant to 49 CFR 573, Defect and Noncompliance Responsibility and Reports. FCA subsequently petitioned NHTSA on December 9, 2019, for an exemption from the notification and remedy requirements of 49 U.S.C. Chapter 301 on the basis that this noncompliance is inconsequential as it relates to motor vehicle safety, pursuant to 40 U.S.C. 30118 and 49 U.S.C. 30120, Exemption for Inconsequential Defect or Noncompliance.

This notice of receipt of FCA's petition is published under 49 U.S.C. 30118 and 30120 and does not represent any agency decision or other exercise of judgment concerning the merits of the petition.

II. Vehicles Involved

Approximately 2,507,693 MY 2004-2020 Chrysler, Dodge, Jeep, Fiat, and Alfa Romeo motor vehicles, manufactured between November 25, 2002, and November 9, 2019, are potentially involved.

III. Noncompliance

FCA explains that the noncompliance is that the subject vehicles are equipped with speedometers that allow the driver to configure the speedometer to display the vehicle's speed in kilometers-per-hour (km/h) only and therefore do not meet the requirements set forth in paragraph S5.2.1 and Table 1, Column 3 of FMVSS No. 101.

IV. Rule Requirements

Paragraph S5.2.1 and Table 1, Column 3 of FMVSS No. 101 provides that each passenger car, multipurpose passenger vehicle, truck and bus that is fitted with a control, a telltale, or an indicator listed in Table 1 or Table 2 must meet the requirements of FMVSS No. 101 for the location, identification, color, and illumination of that control, telltale or indicator. Each control, telltale and indicator that is listed in column 1 of Table 1 or Table 2 must be identified by the symbol specified for it in column 2 or the word or abbreviation specified for it in column 3 of Table 1 or Table 2. Specifically, the speedometer must only allow the speed to be displayed in miles per hour (MPH) or km/h and MPH.

V. Summary of FCA's Petition

The following views and arguments presented in this section, V. Summary of FCA's Petition, are the views and arguments provided by FCA. They have not been evaluated by the Agency and do not reflect the views of the Agency.

FCA described the subject noncompliance and stated that the noncompliance is inconsequential as it relates to motor vehicle safety. FCA submitted the following views and arguments in support of the petition:

1. FCA states that the vehicles are initially delivered for first-sale in a compliant state (vehicle speed displayed in MPH) and that it is only through vehicle operator interaction that the settings can be changed from MPH to km/h. FCA believes that this adjustment cannot be accomplished inadvertently.

2. FCA states that the two speedometer settings are clearly and continuously identified as “km/h” or “MPH”. In addition, the two speedometer scales are noticeably different, and that if a previous vehicle operator changed the units, a subsequent vehicle operator would be able to tell in a glance that the scale is not in MPH.

3. FCA states that the vehicle speed in km/h is 1.6 times greater than speed in MPH [in terms of numeric value displayed by the speedometer—1km/h is approximately 0.62 MPH]. FCA believes that if a vehicle operator changes the display to km/h and then later forgets that the change had been made, the operator will recognize that the vehicle is moving at a slower speed than intended and adjust the speed to match the road and vehicle conditions. This should alert the operator to (at the next appropriate opportunity) perform the appropriate steps to adjust the speedometer.

4. FCA also states that the owner's manuals for all of the affected vehicles contain instructions to change the speedometer display. Therefore, if a vehicle operator needs assistance to reconfigure the display to MPH, instructions are available.

5. FCA further states that the owner's manuals contain toll-free numbers to the FCA customer helplines. Therefore, if a vehicle operator notices that the speed is unintentionally displayed in km/h and does not know how to re-set the speed to display in MPH, e.g., as set by a previous operator, the vehicle operator can easily contact FCA for assistance.

6. FCA has not received any customer contacts regarding this issue, even though this condition exists as in approximately 2.5 million vehicles, some of which have been in service for over 16 years.

7. FCA is not aware of any crashes, injuries, or customer complaints associated with this condition.

8. FCA states that NHTSA has previously granted inconsequential treatment for FMVSS No. 101 noncompliance for display of the vehicle speed in km/h only. An example of the Agency granting a similar inconsequentiality petition for display of the vehicle speed in km/h only is:

• BMW of North America, LLC, a subsidiary of BMW AG, 80 FR 61884 (October 14, 2015).

9. It is FCA's belief that the information described above satisfies the intent of 49 CFR part 556 and operators can safely utilize their vehicles for the intended purposes. FCA believes that pursuant to 49 CFR part 556, 49 U.S.C. 30118(d) and § 30120(h), the FMVSS 101 S5.2.1, this display of the vehicle speed in km/h only noncompliance is inconsequential to motor vehicle safety and FCA should be exempted from the notification and remedy requirements of 49 U.S.C. Chapter 301, “Motor Vehicle Safety” for the reasons supporting exemption cited above.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that FCA no longer controlled at the time it determined that the noncompliance existed. However, any decision on this petition does not relieve vehicle distributors and dealers of the prohibitions on the sale, offer for sale, or introduction or delivery for introduction into interstate commerce of the noncompliant vehicles under their control after FCA notified them that the subject noncompliance existed.

Authority: 49 U.S.C. 30118, 30120: delegations of authority at 49 CFR 1.95 and 501.8

Otto G. Matheke III,
Director, Office of Vehicle Safety Compliance.

[FR Doc. 2020-15006 Filed 7-10-20; 8:45 am]

BILLING CODE 4910-59-P